DEPARTMENT OF THE DEFENSE

Department of the Army, Corps of Engineers

Withdrawal of the Notice of Intent To Prepare an Environmental Impact Statement for the New Jersey Back Bay Coastal Storm Risk Management Feasibility Study

AGENCY: U.S. Army Corps of Engineers, DoD.

ACTION: Notice of Intent; withdrawal.

SUMMARY: The U.S. Army Corps of Engineers, Philadelphia District, Planning Division is notifying interested parties that it has withdrawn the Notice of Intent (NOI) to develop an EIS for the proposed New Jersey Back Bay (NJBB) Coastal Storm Risk Management (CSRM) Feasibility Study. The original NOI to Prepare an EIS was published in the Federal Register on Wednesday, December 27, 2017.

ADDRESSES: U.S. Army Corps of Engineers, Philadelphia District, Environmental Resources Branch, (CENAP-PL-E), 100 Penn Square East, Wanamaker Building, Philadelphia, PA 19107-3390.

FOR FURTHER INFORMATION CONTACT: Questions regarding the withdrawal of this NOI should be addressed to Mr. Steven D. Allen, 215-656-6559, or Steven.D.Allen@usace.army.mil.

SUPPLEMENTARY INFORMATION: On March 20, 2018, the Office of Management and Budget (OMB) and the Council on Environmental Quality (CEQ) issued an OMB/CEQ Memorandum for Heads of Federal Departments and Agencies titled “One Federal Decision Framework for the Environmental Review and Authorization Process for Major Infrastructure Projects under Executive Order [E.O.] 13807.” Additionally, twelve federal agencies, including Department of the Army, signed a Memorandum of Understanding (MOU) as an appendix to the OMB/CEQ Memorandum. The MOU is titled “Memorandum of Understanding Implementing One Federal Decision Under Executive Order 13807” and was effective on April 10, 2018. E.O. 13807 sets a goal for agencies by reducing the time for completing environmental reviews and authorization decisions to an agency average of not more than two years from publication of a NOI to prepare an EIS.

Subsequent to the publication of the NOI, the NJBB CSRM Feasibility Study was granted an exemption from the requirement to complete the feasibility study within 3 years, as required in Section 1001(a) of the Water Resources Reform and Development Act of 2014. This exemption was granted on October 31, 2018 on an interim basis, and allows for an additional 17 months to complete the Agency Decision Milestone. Therefore, in order to align the revised study schedule with E.O. 13807, it is necessary to withdraw the existing NOI to develop and re-scope a NEPA coordination/review schedule with the appropriate Federal and state resource agencies that have statutory jurisdiction over the review process for any action being contemplated in the course of the feasibility study and development of an environmental impact statement. Public, agency and stakeholder comments and feedback will continue to be accepted during the re-scoping of the NEPA review schedule.

Dated: February 5, 2019.
Peter R. Blum,
Chief, Planning Division, U.S. Army Corps of Engineers, Philadelphia District.

[FR Doc. 2019-02803 Filed 2-19-19; 8:45 am]

BILLING CODE 3720-58-P